DEPARTMENT OF COMMERCE

International Trade Administration

[A-570-836]

Glycine From the People's Republic of China: Preliminary Results of Antidumping Duty Administrative Review; 2012-2013

AGENCY: Enforcement and Compliance, formerly Import Administration, International Trade Administration, Department of Commerce.

SUMMARY: The Department of Commerce (the Department) is conducting an administrative review of the antidumping duty order on glycine from the People's Republic of China (the PRC) covering the period of review from March 1, 2012, through February 28, 2013. The Department has preliminarily applied facts otherwise available with an adverse inference to the PRC-wide entity because an element of the entity, Hebei Donghua Jiheng Fine Chemical Co., Ltd. (Donghua Fine Chemical), failed to act to the best of its ability in complying with the Department's request for information in this review and, consequently, significantly impeded the proceeding. Interested parties are invited to comment on these preliminary results.

DATES: Effective Date: December 26, 2013.

FOR FURTHER INFORMATION CONTACT: Edythe Artman or Angelica Mendoza, AD/CVD Operations, Office VI, Enforcement and Compliance, International Trade Administration, U.S. Department of Commerce, 14th Street and Constitution Avenue NW., Washington, DC 20230; telephone: (202) 482-3931 or (202) 482-3019, respectively.

SUPPLEMENTARY INFORMATION:

Scope of the Order

The product covered by the antidumping duty order is glycine, which is a free-flowing crystalline material, like salt or sugar.¹ The subject merchandise is currently classifiable under the Harmonized Tariff Schedule of the United States (HTSUS) subheading 2922.49.4020. The HTSUS subheading is provided for convenience and customs purposes only; the written product description of the scope of the order is dispositive.²

¹ See “Decision Memorandum for the Preliminary Results of Antidumping Duty Administrative Review; 2012-2013: Glycine From the People's Republic of China” From Christian Marsh, Deputy Assistant Secretary for Antidumping and Countervailing Duty Operations, to Ronald K. Lorentzen, Acting Assistant Secretary for Enforcement and Compliance, dated concurrently with this notice (Preliminary Decision Memorandum), for a complete description of the scope of the order.

² See Antidumping Duty Order: Glycine From the People's Republic of China, 60 FR 16116 (March 29, 1995).

Tolling of Deadlines for Preliminary Results

As explained in a memorandum from the Assistant Secretary for Enforcement and Compliance, the Department has exercised its discretion to toll deadlines for the duration of the closure of the federal government from October 1, 2013, through October 16, 2013.³ Therefore, all deadlines in this segment of the proceeding have been extended by 16 days. If the new deadline falls on a non-business day, in accordance with the Department's practice, the deadline will become the next business day. The revised deadline for the preliminary results of this review is now December 18, 2013.

³ See Memorandum for the Record From Paul Piquado, Assistant Secretary for Enforcement and Compliance, regarding “Deadlines Affected by the Shutdown of the Federal Government,” dated October 18, 2013.

Methodology

The Department conducted this review in accordance with section 751(a)(1)(B) of the Tariff Act of 1930, as amended (the Act). We preliminarily applied adverse facts available to the PRC-wide entity in accordance with section 776 of the Act. For a full description of the methodology underlying our conclusions, see the Preliminary Decision Memorandum. The Preliminary Decision Memorandum is a public document and is on file electronically via Enforcement and Compliance's Antidumping and Countervailing Duty Centralized Electronic Service System (IA ACCESS). IA ACCESS is available to registered users at http://iaaccess.trade.gov, and is available to all parties in the Central Records Unit, Room 7046 of the main Department of Commerce building. In addition, a complete version of the Preliminary Decision Memorandum can be accessed directly at http://enforcement.trade.gov/frn/. The signed Preliminary Decision Memorandum and the electronic versions of the Preliminary Decision Memorandum are identical in content.

Intent Not To Rescind Review In Part

We received timely withdrawals of review requests for the following exporters: (1) A&A Pharmachem Inc., (2) AICO Laboratories India Ltd., (3) Amol Pharmaceuticals Pvt. Ltd., (4) Avid Organics, (5) Aqua Bond Inc., (6) Baoding Mantong Fine Chemistry Co., Ltd., (7) Beijing Onlystar Technology Co., Ltd., (8) Chiyuen International Trading Ltd., (9) China Jiangsu International Economic Technical Cooperation Corporation, (10) E-Heng Import and Export Co., Ltd., (11) Evonik Rexim (Nanning) Pharmaceutical Co., Ltd., (12) FarmaSino Pharmaceuticals (Jiangsu) Co., Ltd., (13) General Ingredient Inc., (14) Gulbrandsen Technologies (India), (15) Gurvey & Berry Co., (16) H.T. Griffin Food Ingredients, (17) Hong Kong United Biochemistry Co. Ltd., (18) Jiangsu Dongchang Chemical, (19) Jiangxi Ansun Chemical Technology, (20) Jiangyin Trust International Inc., (21) Jizhou City Huayang Chemical Co., Ltd., (22) Kissner Milling Co. Ltd., (23) NALCO Canada Co., (24) Ningbo Create-Bio Engineering Co. Ltd., (25) Ningbo Generic Chemical Co., (26) Qingdao Samin Chemical Co., Ltd., (27) Paras Intermediates Pvt. Ltd., (28) Ravi Industries, (29) Salvi Chemical Industries, (30) Shanpar Industries Pvt. Ltd., (31) Showa Denko K.K., (32) Shijiazhuang Jackchem Co., Ltd., (33) Shijiazhuang Zexing Amino Acid Co., (34) Tianjin Garments Import & Export, (35) Tianjin Tiancheng Pharmaceutical Company, (36) Tianjin Tianen Enterprise Co. Ltd., (37) Tywoon Development (China) Co., Ltd., (38) Unipex Solutions Canada Inc., (39) XPAC Technologies Inc., and (40) Yuki Gosei Kogyo Co.

None of these exporters, named in the notice of initiation⁴ and for which the requests for review were timely withdrawn, currently have a separate rate from a completed segment of the proceeding.⁵ It is the Department's practice to refrain from rescinding the review with respect to the exporters at this time.⁶ Although their requests for review were timely withdrawn, the exporters remain part of the PRC-wide entity. Therefore, we do not intend to rescind the review with respect to these companies, as they all remain a part of the PRC-wide entity under review for these preliminary results.

⁴ See Initiation of Antidumping and Countervailing Duty Administrative Reviews and Request for Revocation in Part, 78 FR 25418 (May 1, 2013).

⁵ Baoding Mantong has been found to be entitled to a separate rate in the past but lost this status in Glycine From the People's Republic of China: Final Results of Antidumping Duty Administrative Review; 2011-2012, 78 FR 20891 (April 8, 2013), the most recently-completed review in which it participated.

⁶ See Handtrucks and Certain Parts Thereof From the People's Republic of China: Preliminary Results of the 2010-2011 Antidumping Duty Administrative Review, 78 FR 1835 (January 9, 2013), and accompanying Preliminary Decision Memorandum at 3.

Preliminary Results of Review

The Department has preliminarily determined that the following dumping margin exists for the period March 1, 2012, through February 28, 2013:

Exporter | Dumping margin (percent)
PRC-wide entity (including Hebei Donghua Jiheng Fine Chemical Co., Ltd.) ⁷ | 453.79

Public Comment and Opportunity To Request a Hearing

Interested parties may submit case briefs within 30 days after the date of publication of this notice of preliminary results of the review.⁸ Rebuttal briefs, which must be limited to issues raised in the case briefs, must be filed within five days after the time limit for filing case briefs.⁹ Parties who submit case briefs or rebuttal briefs in this proceeding are requested to submit with each argument: (1) A statement of the issue; (2) a brief summary of the argument; and (3) a table of authorities.¹⁰ Interested parties submitting case and rebuttal briefs should do so via IA ACCESS.¹¹

⁷ As noted immediately above, the PRC-wide entity also includes the 40 exporters we do not intend to rescind from the review.

⁸ See 19 CFR 351.309(c)(1)(ii).

⁹ See 19 CFR 351.309(d)(1)-(2).

¹⁰ See 19 CFR 351.309(c)(2), (d)(2).

¹¹ See 19 CFR 351.303(b).

Any interested party may request a hearing within 30 days of the publication of this notice.¹² Hearing requests should contain the following information: (1) The party's name, address, and telephone number; (2) the number of participants; and (3) a list of the issues to be discussed. Oral argument presentations will be limited to issues raised in the briefs. If a request for a hearing is made, parties will be notified of the date and time for the hearing to be held at the U.S. Department of Commerce, 14th Street and Constitution Avenue NW., Washington, DC 20230.¹³

¹² See 19 CFR 351.310(c).

¹³ See 19 CFR 351.310(d).

The Department intends to issue the final results of this administrative review, which will include the results of our analysis of all issues raised in the briefs, within 120 days after the publication of these preliminary results in the Federal Register, pursuant to section 751(a)(3)(A) of the Act.

Assessment Rates

Upon issuance of the final results of this review, the Department will determine, and CBP shall assess, antidumping duties on all appropriate entries of subject merchandise covered by this review.¹⁴ For the PRC-wide entity, we will instruct CBP to assess antidumping duties at an ad valorem rate equal to the weighted-average dumping margin published in the final results of this review. The Department intends to issue assessment instructions to CBP 15 days after the date of publication of the final results of this review in the Federal Register.

¹⁴ See 19 CFR 351.212(b).

The Department recently announced a refinement to its assessment practice in NME cases. Pursuant to this refinement in practice, for entries that were not reported in U.S. sales databases submitted by companies individually examined during the review, the Department will instruct CBP to liquidate such entries at the PRC-wide rate. In addition, if the Department determines that an exporter under review had no shipments of the subject merchandise, any suspended entries that entered under that exporter's case number (i.e., at that exporter's rate) will be liquidated at the PRC-wide rate.¹⁵

¹⁵ For a full discussion of this practice, see Non-Market Economy Antidumping Proceedings: Assessment of Antidumping Duties, 76 FR 65694 (October 24, 2011).

Cash Deposit Requirements

The following cash deposit requirements, when imposed, will apply to all shipments of subject merchandise entered, or withdrawn from warehouse, for consumption on or after the publication of the final results of this administrative review, as provided by section 751(a)(2)(C) of the Act: (1) For any previously reviewed or investigated PRC and non-PRC exporter not listed above that received a separate rate in a previous segment of this proceeding, the cash deposit rate will continue to be the existing exporter-specific rate published for the most recently completed period; (2) for all PRC exporters that have not been found to be entitled to a separate rate, the cash deposit rate will be that for the PRC-wide entity (i.e., 453.79 percent); and (3) for all non-PRC exporters of subject merchandise which have not received their own rate, the cash deposit rate will be the rate applicable to the PRC exporter that supplied the non-PRC exporter. These cash deposit requirements, when imposed, shall remain in effect until further notice.

Notification to Importers

This notice also serves as a preliminary reminder to importers of their responsibility under 19 CFR 351.402(f)(2) to file a certificate regarding the reimbursement of antidumping duties prior to liquidation of the relevant entries during this review period. Failure to comply with this requirement could result in the Department's presumption that reimbursement of antidumping duties occurred and the subsequent assessment of double antidumping duties.

We are issuing and publishing these results in accordance with sections 751(a)(1) and 777(i)(1) of the Act and 19 CFR 351.213.

Dated: December 18, 2013.
Ronald K. Lorentzen,
Acting Assistant Secretary for Enforcement and Compliance.

Appendix I—List of Topics Discussed in the Preliminary Decision Memorandum

1. Background

2. Scope of the Order

3. Respondent Selection

4. Intent Not To Rescind Review in Part

5. Extension of the Preliminary Results of Review

6. Failure To Respond to Requests for Information

7. Non-Market Economy Country Status

8. Separate Rates Determination

9. The PRC-Wide Entity

10. Adverse Facts Available

1. Use of Facts Available and Adverse Facts Available

2. Application of Total Adverse Facts Available to the PRC-Wide Entity

3. Selection of an Adverse-Facts-Available Rate

4. Corroboration of Secondary Information

[FR Doc. 2013-30918 Filed 12-24-13; 8:45 am]

BILLING CODE 3510-DS-P